INTERNATIONAL TRADE COMMISSION

Temporary Change to Antidumping/Countervailing Duty Conference and Hearing Procedures

AGENCY: United States International Trade Commission.

ACTION: Notice.

SUMMARY: The United States International Trade Commission (Commission) provides notice that, to address concerns related to COVID-19, it is temporarily waiving and amending certain of the Commission's rules that permit participants to appear in-person to give oral presentations, written witness testimony, or statements at antidumping/countervailing duty (AD/CVD) preliminary phase conferences, and final phase investigation and five-year review hearings held under Title VII of the Tariff Act of 1930.

DATES: Immediately and until further notice.

FOR FURTHER INFORMATION CONTACT: You may direct telephone inquiries to Lisa R. Barton, Secretary to the Commission, the Office of the Secretary at (202) 205-2000. You may direct email inquiries to EDIS3help@usitc.gov. Hearing impaired persons can obtain information on this matter by contacting the Commission's TDD terminal at (202) 205-1810. You may find general information concerning the Commission at https://www.usitc.gov.

SUPPLEMENTARY INFORMATION: Section 201.4(b) of the Commission's Rules of Practice and Procedure (19 CFR 201.4(b)) permits the Commission to amend, waive, suspend, or revoke Commission rules for “good and sufficient reason” if the rule is not a matter of procedure required by law. The procedures permitting participants to make oral statements or presentations, or submit written witness testimony, at AD/CVD proceedings are not procedures required by law. Therefore, to address concerns related to COVID-19, the Commission has determined that there is good and sufficient reason to waive and amend certain Commission rules. This rule waiver and amendment is effective immediately and until further notice, which will be provided in a subsequent Federal Register notice. Waiver and amendment of these rules will mitigate disruption to Title VII investigations while the USITC building is closed.

Specifically, the Commission temporarily waives the provisions of Rules 201.13(f) and (h), 207.15, and 207.24(b) (19 CFR 201.13(f) and (h), 207.15, and 207.24(b)) that require or permit participants to submit presentations, statements, and written witness testimony at in-person AD/CVD conferences and hearings.

The Commission has approved the temporary amendment of Rule 207.24(b) (19 CFR 207.24(b)) to permit parties to submit written presentations and written witness testimony, and to permit nonparties to submit brief written statements. The Commission has also approved the temporary amendment of Rule 207.15 (19 CFR 207.15) to instruct each party to provide written witness testimony in accordance with the schedule and instructions specified by the Director or presiding official. All such filings shall comply with the procedures set forth in the Commission's Electronic Document Information System website at https://edis.usitc.gov.

By order of the Commission.
Issued: April 10, 2020.
William Bishop,
Supervisory Hearings and Information Officer.

[FR Doc. 2020-07967 Filed 4-15-20; 8:45 am]

BILLING CODE 7020-02-P